FEDERAL COMMUNICATIONS COMMISSION

47 CFR Part 73

[DA 01-1764, MM Docket No. 01-83, RM-10085]

Digital Television Broadcast Service; Lexington, KY

AGENCY: Federal Communications Commission.

ACTION: Final rule.

SUMMARY: The Commission, at the request of WLEX Communications, LLC, licensee of station WLEX-TV, substitutes DTV channel 39 for DTV channel 22 at Lexington, Kentucky. See 66 FR 20620, April 24, 2001. DTV channel 39 can be allotted to Lexington in compliance with the principle community coverage requirements of Section 73.625(a) at reference coordinates (38-02-03 N. and 84-23-39 W.) with a power of 1000, HAAT of 288 meters and with a DTV service population of 814 thousand.

With this action, this proceeding is terminated.

DATES: Effective September 10, 2001.

FOR FURTHER INFORMATION CONTACT: Pam Blumenthal, Mass Media Bureau, (202) 418-1600.

SUPPLEMENTARY INFORMATION: This is a synopsis of the Commission's Report and Order, MM Docket No. 01-83, adopted July 24, 2001, and released July 27, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Kentucky, is amended by removing DTV channel 22 and adding DTV channel 39 at Lexington.

Federal Communications Commission.
Barbara A. Kreisman,
Chief, Video Services Division, Mass Media Bureau.

[FR Doc. 01-19146 Filed 7-31-01; 8:45 am]

BILLING CODE 6712-01-P